SMALL BUSINESS ADMINISTRATION

[Docket No: SBA-2014-0004]

Small Business Investment Company (SBIC) Program: SBA Model Form of Agreement of Limited Partnership for an SBIC Issuing Debentures Only

AGENCY: Small Business Administration.

ACTION: Notice; request for comments on SBA Model Form of Agreement of Limited Partnership for an SBIC Issuing Debentures Only.

SUMMARY: The Small Business Administration (SBA) intends to update the SBA Model Form of Agreement of Limited Partnership for an SBIC Issuing Debentures Only (the Model) to conform its contents to current industry norms and practices while maintaining the regulatory and policy provisions necessary to ensure that the Model remains consistent with SBA's requirements and to minimize the risk of loss in the SBIC program. The Agency welcomes comments from the public on how to achieve this objective.

DATES: This notice is effective April 22, 2014.

Comment Date: Comments on the Model must be received on or before June 23, 2014.

ADDRESSES: Submit your comments, identified by Docket ID No. SBA-2014-0004, at www.regulations.gov. Comments may only be submitted at this web address; follow the instructions on the Web site for submitting comments.

All comments received will be included in the public docket without change and will be available online at www.regulations.gov. All submissions, including attachments and other supporting materials, will become part of the public record and subject to public disclosure. Sensitive information and information that you consider to be Confidential Business Information or otherwise protected should not be included. Submissions will not be edited to remove any identifying or contact information.

FOR FURTHER INFORMATION CONTACT: Renee Gordon, Office of General Counsel, 409 Third Street SW., Washington, DC 20416; (202) 401-2744.

SUPPLEMENTARY INFORMATION: The Small Business Investment Company (SBIC) Program is one of the financial assistance programs available through SBA. The SBIC Program was established under the Small Business Investment Act of 1958, as amended. SBICs are privately owned and managed investment funds, licensed and regulated by SBA, that use their own capital plus funds borrowed with an SBA guarantee to make equity and debt investments in qualifying small businesses.

The License Application for a Small Business Investment Company (SBA Form 2183) requires an applicant to submit, among other things, its organizational documents. Since the majority of applicants to the SBIC program are formed as limited partnerships, most applicants submit their limited partnership agreement as part of their application. The original version of the Model was developed in 2000 to assist applicants in producing a limited partnership agreement suitable for an SBIC and to facilitate this process by including provisions required by the regulations governing the SBIC Program (13 CFR Part 107) and other SBA policy requirements designed to minimize the risk of loss to SBA in providing financial assistance to SBICs. The SBA Model Form of Agreement of Limited Partnership for an SBIC Issuing Debentures Only is available at http://www.sba.gov/content/model-partnership-agreement. To further assist applicants, the required provisions are shown in the Model in bold Arial typeface. Applicants to the SBIC Program are not required to use the Model and are permitted to submit any form of limited partnership agreement; however, those applicants that do not use the Model must either include in their limited partnership agreement the bold Arial typeface provisions from the Model or attach an annex to their limited partnership agreement with the bold Arial typeface provisions from the Model. As a result, for many applicants, the Model provides an efficient tool in preparing a limited partnership agreement.

Since the Model was developed in 2000, changes have occurred both in the structure and operation of limited partnerships and in the venture capital industry. SBA is soliciting comments and recommendations from the public on updating the Model and will consider such comments when revising it. The SBA will not issue another notice in the Federal Register but will post the final revised version of the Model on the SBIC Web site at http://www.sba.gov/category/lender-navigation/sba-loan-programs/sbic-program-0.

Authority: 15 U.S.C. 681.

Dated: April 17, 2014.
Javier Saade,
Associate Administrator for Investment and Innovation.

[FR Doc. 2014-09182 Filed 4-21-14; 8:45 am]

BILLING CODE 8025-01-P